DEPARTMENT OF THE INTERIOR

Bureau of Ocean Energy Management

[OMB Control Number 1010-0191; Docket ID: BOEM-2017-0016]

Agency Information Collection Activities; Negotiated Noncompetitive Agreement for the Use of Sand, Gravel and Shell Resources on the Outer Continental Shelf

AGENCY: Bureau of Ocean Energy Management, Interior.

ACTION: Notice of information collection; request for comment.

SUMMARY: In accordance with the Paperwork Reduction Act of 1995, the Bureau of Ocean Energy Management (BOEM) is proposing to renew an information collection request (ICR) with revisions.

DATES: Interested persons are invited to submit comments on or before September 14, 2020.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-0191 in the subject line of your comments.

FOR FURTHER INFORMATION CONTACT: To request additional information about this ICR, contact Anna Atkinson by email, or by telephone at 703-787-1025.

SUPPLEMENTARY INFORMATION: In accordance with the Paperwork Reduction Act of 1995, BOEM provides the general public and other Federal agencies with an opportunity to comment on new, proposed, revised, and continuing collections of information. This helps BOEM assess the impact of our information collection requirements and minimize the public's reporting burden. It also helps the public understand our information collection requirements and provide the requested data in the desired format.

BOEM is soliciting comments on the proposed ICR described below. BOEM is especially interested in public comment addressing the following issues: (1) Is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in our request to the Office of Management and Budget (OMB) for approval of this ICR. You should be aware that your entire comment—including your address, phone number, email address, or other personally identifiable information—may be made publicly available at any time. In order for BOEM to withhold from disclosure your personally identifiable information, you must identify any information contained in the submittal of your comments that, if released, would constitute a clearly unwarranted invasion of your personal privacy. You must also briefly describe any possible harmful consequences of the disclosure of information, such as embarrassment, injury, or other harm. While you can ask us in your comment to withhold your personally identifiable information from public review, we cannot guarantee that we will be able to do so.

BOEM protects proprietary information in accordance with the Freedom of Information Act (5 U.S.C. 552) and the Department of the Interior's implementing regulations (43 CFR part 2).

Abstract: In 2017, BOEM published a final rule that created part 583 in Title 30 of the Code of Federal Regulations to address the use of Outer Continental Shelf (OCS) sand, gravel and shell resources for shore protection, beach restoration, or coastal wetlands restoration projects by Federal, State or local government agencies, or for use in construction projects authorized by or funded in whole or in part by the Federal Government.

The OCS Lands Act, 43 U.S.C. 1331 et seq. as amended, authorizes the Secretary of the Interior to prescribe rules and regulations to administer leasing of mineral resources on the OCS. Section 1337(k)(1) authorizes the Secretary “. . . to grant to the qualified persons offering the highest cash bonuses on a basis of competitive bidding leases of any mineral other than oil, gas, and sulphur in any area of the [O]uter Continental Shelf not then under lease for such mineral upon such royalty, rental, and other terms and conditions as the Secretary may prescribe at the time of offering the area for lease.” An amendment to the OCS Lands Act authorizes the Secretary to negotiate agreements (in lieu of the previously required competitive bidding process) for the use of OCS sand, gravel, and shell resources for certain specified types of public uses. The specified uses will support construction of governmental projects for beach nourishment, shore protection, and wetlands enhancement, or any such project authorized by the Federal Government.

Under the authority delegated by the Secretary of the Interior, BOEM is authorized, pursuant to section 1337(k)(2) of the OCS Lands Act, to convey rights to OCS sand, gravel, and shell resources by negotiated noncompetitive agreement for use in shore protection and beach and coastal restoration, or for use in construction projects funded in whole or part by or authorized by the Federal Government.

Title of Collection: 30 CFR part 583, Negotiated Noncompetitive Agreement for the Use of Sand, Gravel and Shell Resources on the Outer Continental Shelf.

OMB Control Number: 1010-0191.

Form Number: None.

Type of Review: Renewal with revisions of a currently approved collection.

Respondents/Affected Public: Potential respondents include Federal, State, or local governments.

Total Estimated Number of Annual Responses: 45 responses.

Total Estimated Number of Annual Burden Hours: 299 hours.

Respondent's Obligation: Required to retain or obtain a benefit.

Frequency of Collection: On occasion.

Total Estimated Annual Non-hour Burden Cost: We have identified no non-hour paperwork cost burdens for this collection.

Estimated Reporting and Recordkeeping Hour Burden: We estimate that the annual reporting burden for this collection is 299, which would be an increase of 56 annual burden hours from the OMB-approved burden hours. This increase is due to changes in estimated hour burdens and number of responses related to 30 CFR 583, subpart C, since the publication of the regulations in 2017. The hour burden estimates would be revised to more accurately update the number of state and local governments requesting negotiated noncompetitive agreements from BOEM. In addition, BOEM has reviewed the hour burdens for requested information under this subpart, and the increase would better reflect hours it takes for respondent to collect and submit the information.

Burden Table
Citation 30 CFR 583 subpart A | Reporting and recordkeeping requirement | Hour burden | Average number of annual responses | Annual burden hours
Subpart A—General—Federal, State, & local governments
125 | Apply for reconsideration to the BOEM Director within 15 days of notification; include statement of reasons; 1 copy to program office | 4 | 1 | 4
Total Subpart A |  |  | 1 | 4

Citation 30 CFR 583 subpart C | Reporting and recordkeeping requirement | Hour burden | Average number of annual responses | Annual burden hours
Subpart C—OCS Sand, Gravel, & Shell Resources Negotiated Agreements—State & local governments
300 | Submit to BOEM a written request to obtain agreement; including, but not limited to: Detailed description of project; borrow area(s) and placement area(s); maps (geographic coordinates); G&G data; description/documentation of environmental evaluations; target dates; description of parties involved; status of required permits, licenses, or authorizations; description of potential conflicts with CZMA plans and other applicable requirements; points of contact info. of all parties involved; statement of funding | 20 | 8 | 160
305; 310(d) | Submit additional information as requested by BOEM | 5 | 5 | 25
315(b); | Request BOEM Director for reconsideration of a disapproved agreement; | Burden covered under 30 CFR 583 Subpart A |  | 0
315(c)-(e) | Review, comment, and negotiate draft agreement; sign and return copies for execution by BOEM | 8 | 8 | 64
335(a) | Submit written notification to BOEM once resources authorized are obtained | 2 | 8 | 16
340 | Verify that all contractors comply with 2 CFR 180 & 2 CFR 1400 in contract/transaction | 2 | 8 | 16
345 | Submit written request to extend, modify, or change agreement to BOEM at least 180 days before expiration; any necessary information and evaluations documentation requested by BOEM; sign and return amendment; request BOEM Director for reconsideration | 2 | 2 | 4
345(b) | Submit written request for letter amendment | 2 | 5 | 10
Total Subpart C |  |  | 44 | 295
Grand Total |  |  | 45 | 299

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulation, and Analysis.

[FR Doc. 2020-15129 Filed 7-13-20; 8:45 am]

BILLING CODE 4310-MR-P